DEPARTMENT OF EDUCATION

Discretionary Grant Programs

AGENCY: Department of Education.

ACTION: Notice of final priorities.

SUMMARY: The Secretary of Education establishes priorities that the Department of Education (Department) may use for any appropriate discretionary grant program in fiscal year (FY) 2007 and in FY 2008. We take this action to focus Federal financial assistance on expanding the number of programs and projects Department-wide that support activities in areas of greatest educational need. Although we expect that these priorities will have the greatest applicability to programs authorized by the Elementary and Secondary Education Act of 1965 (as amended by the No Child Left Behind Act of 2001), we are establishing the priorities on a Department-wide basis, so that Department offices can use one or more of these priorities in any discretionary grant competition, as appropriate.

DATES: Effective Date: These priorities are effective November 13, 2006.

FOR FURTHER INFORMATION CONTACT: Margo Anderson, U.S. Department of Education, 400 Maryland Avenue, SW., Room 4W311, Washington, DC 20202-5910. Telephone: (202) 205-3010 or via Internet at: Margo.Anderson@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

General

In the more than four years since the enactment of the No Child Left Behind Act of 2001 (NCLB), there have been significant changes in our educational system that provide a strong framework for reaching the goal that all students will be proficient in reading/language arts and mathematics by the year 2014. States have put in place rigorous new accountability systems and in the last school year (2005-2006) administered reading and mathematics assessments covering all students in grades 3 to 8 and at least once for students in grades 10 to 12. By school year 2007-2008, States will be assessing students in science at least once in each of three grade spans (3-5, 6-9, 10-12). A focus on professional development and teacher qualifications is helping States to ensure that increasing numbers of students are being taught by highly-qualified teachers. School districts are providing new support and assistance to schools in need of improvement, while making available public school choice and supplemental educational services options to eligible students who attend these schools.

National Assessment of Educational Progress (NAEP) results for older students provide a reminder of the need to continue to emphasize high standards and accountability for all students, especially those in the higher grades. The 2005 NAEP math results for 8th graders, for example, are both illustrative and alarming: less than one-third of 8th graders, and just 13 percent of low-income 8th graders, scored at the proficient or above level. High school test scores in mathematics have barely budged since the 1970's and less than half of high school graduates in 2005 were ready for college-level math and science coursework, according to American College Testing, Inc. (ACT).

America's rapidly changing economy requires an educational system that is producing high school graduates with the skills needed to be successful in postsecondary education and the workforce. In addition to improving the academic achievement of students in mathematics and science, we must expand the number of Americans mastering foreign languages critical to national security and to our participation in the global economy. High schools must develop a larger pool of technically adept and numerically literate Americans, a continual supply of highly trained mathematicians, scientists, and engineers, and more students with higher levels of proficiency in critical-need languages. The Department believes that high-quality professional development for secondary school teachers is a critical part of the solution, because it can help ensure that these teachers have the content knowledge and expertise required to improve student achievement.

Rigorous instruction, high standards, and accountability for results are helping to raise achievement in the early grades. Now America must complete the task. We must focus on improving the mathematics and science achievement of secondary school students, expanding foreign language learning to critical need languages, providing teachers with better training and support, helping districts improve all their schools, and ensuring that all students meet rigorous State mathematics and science academic standards and graduate from high school. Student performance is not just an education issue; it is an economic issue, a civic issue, a social issue, and a national security issue.

In addition to content-specific priorities, the Secretary is establishing a priority for collecting data to assess the effect of projects on the academic achievement of student participants relative to appropriate comparison or control groups. The Secretary believes that interventions must be designed to collect the best available data to determine the impact of the proposed intervention on student achievement and to inform future improvement efforts. Finally, to assist schools and districts in using data effectively, we are establishing a priority for projects that will help educators use information from State data systems to improve student achievement or other appropriate outcomes.

We published a notice of proposed priorities in the Federal Register on August 7, 2006 (71 FR 44671). The Department has made one change to priority three since publication of the notice of proposed priorities. We explain this change in the Analysis of Comments and Change elsewhere in this notice.

Analysis of Comments and Change

In response to our invitation in the notice of proposed priorities, seven parties submitted comments on the proposed priorities. Although we received several substantive comments, we determined that the comments did not warrant changes to the priorities. However, based on intradepartmental review of the notice of proposed priorities, we made a change to priority three. An analysis of the comments and the change to priority three follows.

Generally, we do not address technical and other minor changes—and suggested changes the law does not authorize us to make under the applicable statutory authority.

Comment: One commenter recommended the addition of a priority for technology.

Discussion: The Secretary believes that technology issues can be addressed in the context of the content priorities.

Change: None.

Comment: One commenter recommended the addition of a priority for language arts.

Discussion: The Secretary identified the content areas of the priorities (math, science, and critical foreign languages) based on a determination that these are the most important areas on which to focus next in terms of the skills needed for our students to successfully compete in the global economy. The Secretary believes that language arts can be addressed through existing Department programs on reading.

Change: None.

Comment: One commenter expressed concern that there was not an emergent and beginning literacy component to the priorities and wondered if this type of activity could be supported in the critical-need languages priority.

Discussion: The Secretary believes that an emerging literacy component could, depending on how it is designed, be one of many appropriate activities to address the critical-need languages priority.

Change: None.

Comment: One commenter suggested that for the critical-need languages priority, the Department consider using such resources as highly educated foreign immigrants and faculty and students from area colleges and universities. The commenter also suggested using summer foreign language institutes for high school students to encourage their pursuit of foreign language studies in college.

Discussion: Depending on the individual program competition requirements, the Secretary believes that these activities, if properly designed, could address this priority.

Change: None.

Comment: None.

Discussion: Based on intradepartmental review of the notice of proposed priorities, we added to priority three language that expands the applicability of this priority to include activities to develop programs in certain critical needs languages. The proposed language of priority three limited the priority to activities to enable students to achieve proficiency or advanced proficiency in certain critical needs languages. This change is necessary to ensure that the broadest range of the Department's programs can use the priority.

Change: We have amended priority three by adding language that expands the applicability of this priority to include activities to develop programs in certain critical needs languages.

Comment: One commenter recommended adding a priority for after-school programs.

Discussion: The Department supports after-school programs through its existing, State-administered after-school program, 21st Century Learning Centers, which received approximately $981,000,000 in FY 2006 funding.

Change: None.

Comment: One commenter recommended that the Department provide a definition of secondary school.

Discussion: The term “secondary school” is already defined in section 9101(38) of the Elementary and Secondary Education Act, 20 U.S.C. 7801(38), and in the Department's regulations at 34 CFR 77.1.

Change: None.

Comment: One commenter asked why the first two priorities on mathematics and science proficiency, respectively, weren't more explicit about teacher recruitment.

Discussion: Teacher recruitment and training could be one of the many possible activities that, if properly designed, could address these two priorities. The Secretary believes that applicants should have the flexibility to use a variety of strategies to achieve the goals of proficiency or advanced proficiency in mathematics and science.

Change: None.

Comment: One commenter recommended that, for the professional development for secondary school teachers priority, consideration be given to preparing secondary school teachers to integrate advanced literacy skills and mathematics concepts and applications into their areas of specialization.

Discussion: Depending upon the individual program competition requirements, the Secretary believes that this activity, if properly designed, could address this priority.

Change: None.

Comment: One commenter asked what the purpose was of the priority for State data systems.

Discussion: The purpose of this priority is to encourage educators to use State data systems to track individual student achievement (including for students who move across schools and districts) in order to improve instruction, design and implement interventions for students at risk of failure, and hold schools and districts accountable for performance.

Change: None.

Note: This notice does not solicit applications. In any year in which we choose to use one or more of these priorities, we invite applications for new awards under the applicable program through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

The Secretary establishes priorities that the Department may use for discretionary grant competitions in FY 2007 and FY 2008, as appropriate. The Secretary intends that these priorities will allow program participants and the Department to focus limited Federal resources in areas of greatest educational need. The Secretary recognizes that some of the priorities will not be appropriate for particular programs.

Priority 1—Mathematics. Projects that support activities to enable students to achieve proficiency or advanced proficiency in mathematics.

Priority 2—Science. Projects that support activities to enable students to achieve proficiency or advanced proficiency in science.

Priority 3—Critical-Need Languages. Projects that support activities to enable students to achieve proficiency or advanced proficiency or to develop programs in one or more of the following less commonly taught languages: Arabic, Chinese, Korean, Japanese, Russian, and languages in the Indic, Iranian, and Turkic language families.

Priority 4—Secondary Schools. Projects that support activities and interventions aimed at improving the academic achievement of secondary school students who are at greatest risk of not meeting challenging State academic standards and not completing high school.

Priority 5—Professional Development for Secondary School Teachers. Projects that support high-quality professional development for secondary school teachers to help these teachers improve student academic achievement.

Priority 6—School Districts With Schools in Need of Improvement, Corrective Action, or Restructuring. Projects that help school districts implement academic and structural interventions in schools that have been identified for improvement, corrective action, or restructuring under the Elementary and Secondary Education Act of 1965, as amended by the No Child Left Behind Act of 2001.

Priority 7—Student Achievement Data. Projects that collect pre- and post-intervention test data to assess the effect of the projects on the academic achievement of student participants relative to appropriate comparison or control groups.

Priority 8—State Data Systems. Projects that help educators use information from State data systems to improve student achievement or other appropriate outcomes.

Executive Order 12866

This notice of final priorities has been reviewed in accordance with Executive Order 12866. Under the terms of the order, we have assessed the potential costs and benefits of this regulatory action.

The potential costs associated with the notice of final priorities are those resulting from statutory requirements and those we have determined as necessary for administering the Department's discretionary grant programs effectively and efficiently.

In assessing the potential costs and benefits—both quantitative and qualitative—of this notice of final priorities, we have determined that the benefits of the final priorities justify the costs.

We have also determined that this regulatory action does not unduly interfere with State, local, and tribal governments in the exercise of their governmental functions.

Executive Order 12372

Some of the programs affected by these final priorities are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number does not apply.)

Program Authority: 20 U.S.C. 1221e-3; 20 U.S.C. 6301 et. seq.

Dated: October 4, 2006.
Margaret Spellings,
Secretary of Education.

[FR Doc. 06-8608 Filed 10-10-06; 8:45 am]

BILLING CODE 4000-01-P